Title 3—

The President

Proclamation 8084 of November 16, 2006

National Family Week, 2006

By the President of the United States of America

A Proclamation

Families are indispensable to a stable and free society. They pass along the traditions and principles that help make America compassionate, decent, and hopeful. During National Family Week, we honor our families and recognize their contributions to keeping our country strong.

Today's fast-changing world needs the anchor of values and virtues that families can provide. Strong families instill responsibility and character in our children and teach them the ideals that make us a great Nation. Through their love and sacrifice, America's parents, grandparents, aunts, uncles, siblings, and other family members help prepare our young people to realize the bright future America offers each child.

My Administration is committed to ensuring that our children grow up in loving, stable homes. Earlier this year, I signed legislation that creates new grants for faith-based and community organizations to support healthy marriages and responsible fatherhood. By reducing the marriage penalty and doubling the child tax credit, we have also provided important tax relief that helps parents to support and provide for their families.

During National Family Week and throughout the year, we also extend our appreciation and support to our courageous military families, who have borne the hardships of war with dignity and devotion. Our Nation has remained strong and free because the brave men and women of our Armed Forces defend this country and our beliefs. By supporting their loved ones in uniform, our military families are also serving our country, and America is grateful for their service and sacrifice.

NOW, THEREFORE, I, GEORGE W. BUSH, President of the United States of America, by virtue of the authority vested in me by the Constitution and laws of the United States, do hereby proclaim November 19 through November 25, 2006, as National Family Week. I invite the States, communities, and all the people of the United States to join together in observing this week with appropriate ceremonies and activities to honor our Nation's families.

IN WITNESS WHEREOF, I have hereunto set my hand this sixteenth day of November, in the year of our Lord two thousand six, and of the Independence of the United States of America the two hundred and thirty-first.

[FR Doc. 06-9356

Filed 11-20-06; 8:45 am]

Billing code 3195-01-P